DEPARTMENT OF AGRICULTURE

Agricultural Marketing Service

[Doc. No. AMS-AMS-22-0005]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection National Bioengineered Food Disclosure Standard.

DATES: Comments on this notice must be received by April 25, 2022 to be assured of consideration.

ADDRESSES: Interested persons are invited to submit comments concerning this notice by using the electronic process available at www.regulations.gov. Comments may also be filed with the Docket Clerk, 1400 Independence Ave. SW, Room 2069-South, Washington, DC 20250; Fax: (202) 260-8369. All comments should reference the document number and the date and page number of this issue of the Federal Register. All comments submitted in response to this notice will be posted without change, including any personal information provided, at www.regulations.gov and will be included in the record and made available to the public. All comments received will also be available for public inspection during regular business hours at the address above.

FOR FURTHER INFORMATION CONTACT: Kenneth Becker, Chief, Research and Rulemaking Branch, Food Disclosure and Labeling Division, Fair Trade Practices Program, Agricultural Marketing Service, U.S. Department of Agriculture. telephone (202) 720-4486, email: kenneth.becker@usda.gov.

SUPPLEMENTARY INFORMATION: Agency: USDA, AMS.

Title: National Bioengineered Food Disclosure Standard.

OMB Number: 0581-0315.

Expiration Date of Approval: April 30, 2022.

Type of Request: Extension and revision of a currently approved information collection.

Abstract: The U.S. Department of Agriculture (USDA) administers the Agricultural Marketing Act of 1946 (Title II of the Act of August 14, 1946). P.L. 114-216 amended the Agricultural Marketing Act of 1946, directing the Secretary of Agriculture to establish the National Bioengineered Food Disclosure Standard (7 CFR 66) for disclosing certain foods that are bioengineered or contain bioengineered ingredients. The final rule (National Bioengineered Food Disclosure Standard [7 CFR 66]) fulfils USDA's need to establish requirements and procedures to carry out the new standard. P.L. 114-216 also addressed Federal preemption of State and local genetic engineering labeling requirements and specifies that certification of food under USDA's National Organic Program (7 CFR 205) were considered sufficient to make claims about the absence of bioengineering in the food. AMS gathered industry input and conducted rulemaking on the National Bioengineered Food Disclosure Standards. In accordance with the Paperwork Reduction Act of 1995 (44 U.S.C. 3501-3520), AMS is publishing this a 60-day notice on reporting and recordkeeping requirements related to the National Bioengineered Food Disclosure Standard. This collection represents a total burden of 353,952 hours.

Estimate of Burden: Public reporting burden for this collection of information is estimated to average 2.3 hours per response.

Respondents: Importers, food manufacturers, and food retailers.

Estimated Number of Respondents: 155,098.

Estimated Total Annual Responses: 155,098.

Estimated Number of Responses per Respondent: 1.

Estimated Total Annual Burden on Respondents: 353,952 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Erin Morris,
Associate Administrator, Agricultural Marketing Service.

[FR Doc. 2022-03713 Filed 2-18-22; 8:45 am]

BILLING CODE P